DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending August 31, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0164.

Date Filed: August 29, 2013.

Due Date for Answers, Conforming Applications, or Motion to Modify Scope: September 19, 2013.

Description: Application of United Airlines, Inc. requesting a certificate of public convenience and necessity and an exemption authorizing it to provide scheduled foreign air transportation of persons, property, and mail between San Francisco and Chengdu, People's Republic of China, beginning on June 11, 2014.

Barbara J. Hairston,
Supervisory Dockets Officer, Docket Operations, Federal Register Liaison.

[FR Doc. 2013-22373 Filed 9-12-13; 8:45 am]

BILLING CODE 4910-9X-P